POSTAL SERVICE

39 CFR Part 121

Service Standards for Market-Dominant Mail Products

AGENCY: Postal Service™.

ACTION: Proposed rule.

SUMMARY: The United States Postal Service seeks public comment on proposed revisions to the service standards for certain market-dominant mail products. The Postal Service proposes to restructure the service standards, such that service standards for domestic First-Class Mail would retain the current day range of 1-5 days (as well as the current 0-1 days for USPS Connect® Local), while being calculated, with certain exceptions, as the sum of delivery days accruing across three successive operational legs reflecting end-to-end service from an originating 5-digit ZIP Code to a destinating 5-digit ZIP Code. The proposed rule would also partially adjust the service standards for end-to-end Periodicals, USPS Marketing Mail, and Package Services so that they would all be primarily based on the standards for First-Class Mail, consistent with the Postal Service's implementation of a more integrated network, thus continuing our efforts to eliminate our legacy network that, due to its poor design, has multiple, redundant network flows. In particular, the proposed service standards align with operational initiatives that the Postal Service plans to implement on a nationwide basis to fundamentally transform our processing and transportation networks to achieve greater operational precision and efficiency, significantly reduce costs, and enhance service pursuant to the Delivering for America strategic plan (“Plan”). The Postal Service is required by law to provide prompt, reliable, and efficient universal postal services in a financially self-sufficient manner, through an integrated network for the delivery of mail and packages at least six days a week. However, the Postal Service currently is not achieving the requirements of the statute, as we lack a network that enables the integrated movement of mail and packages in a precise, efficient, and cost-effective manner. The Postal Service network has not been appropriately adjusted to account for volume and mail mix changes, including the substantial decline in Single-Piece First-Class Mail and increase in package volume, leading to significant inefficiencies. These initiatives will comprehensively transform these operations to fix the problems that exist today and create a network that enables the integrated movement of mail and packages in a precise and cost-effective manner far into the future. These initiatives would lead to a net positive impact for First-Class Mail from a service standard perspective, and generally faster service for end-to-end USPS Marketing Mail, Periodicals, and Package Services. They will also lead to substantial cost savings (estimated at between $3.6 to $3.7 billion annually), which is critical given the Postal Service's current poor financial condition, which can be addressed only through comprehensive changes to reduce costs and increase efficiency (in conjunction with the other elements of the Plan). Further details of the proposed changes appear below.

DATES: Comments must be received on or before December 31, 2024.

ADDRESSES: Mail or deliver written comments to the Director, Product Classification, U.S. Postal Service, 475 L'Enfant Plaza SW, Room 4446, Washington, DC 20260-3436. Email comments, containing the name and address of the commenter, may be sent to: PCFederalRegister@usps.gov, with a subject line of “Service Standards for Market-Dominant Mail Products.” Faxed comments are not accepted. All submitted comments and attachments are part of the public record and subject to disclosure. Do not enclose any material in your comments that you consider to be confidential or inappropriate for public disclosure. You may inspect and photocopy all written comments, by appointment only, at USPS® Headquarters Library, 475 L'Enfant Plaza SW, 11th Floor North, Washington, DC 20260. These records are available for review Monday through Friday, 9 a.m. and 4 p.m. by calling 202-268-2906.

FOR FURTHER INFORMATION CONTACT: Martha Johnson, Senior Public Relations Representative, at martha.s.johnson@usps.gov or (202) 268-2000.

SUPPLEMENTARY INFORMATION:

I. Introduction

The Postal Service proposes to amend 39 CFR part 121 to revise the current service standards for certain market-dominant products. These revisions achieve the objectives set forth in 39 U.S.C. 3691(b), taking into account the factors of 39 U.S.C. 3691(c). Overall, they further the Postal Service's obligations under 39 U.S.C. 101 and other provisions of Title 39 of the U.S. Code to provide universal postal services in a prompt, reliable, and efficient manner. The Postal Service is required by law to provide universal postal services in a financially self-sufficient manner, through an integrated network for the delivery of mail and packages at least six days a week. The Postal Service currently is not financially self-sufficient, and also lacks a network that is conducive to the logical, efficient, cost-effective, and reliable movement of mail and packages in an integrated manner from origin to destination in the modern postal environment, taking into account the current and projected volume and product mix. By implementing these operational initiatives and the proposed standards with which they are aligned, the Postal Service would be able to better balance and achieve these statutory policies and achieve the goals of the Plan to create a high-performing, financially sustainable organization.

The current standards for First-Class Mail lead to high costs and inefficiencies in the transportation and processing network, and are not conducive to providing reliable and consistent service. The Postal Service is adjusting the service standards to improve our capability to deliver mail reliably and predictably for Postal Service customers, while enhancing the ability to increase operational efficiency and effectiveness consistent with best business practices. These standards would allow the Postal Service to better meet customer needs for prompt and reliable service, while supporting the maintenance of reasonable postage rates.

Before describing how service standards would be revised, it is important to understand how service standards are structured in Postal Service regulations. Service standards contain two components: (1) a delivery day range within which mail in a given product is expected to be delivered; and (2) business rules that determine, within a product's applicable day range, the specific number of delivery days after acceptance of a mail piece by which a customer can expect that piece to be delivered, based on the ZIP Code prefixes associated with the piece's point of entry into the mail stream and its delivery address. As noted above, the Postal Service proposes to restructure the service standards for domestic First-Class Mail, with certain exceptions, as the sum of delivery days accruing across three successive operational legs reflecting end-to-end service from an originating 5-digit ZIP Code to a destinating 5-digit ZIP Code. Leg 1 begins with collection and ends with acceptance at the applicable originating processing facility. Leg 2 begins with acceptance at the originating processing facility and ends with acceptance at the applicable destinating processing facility. Leg 3 begins with acceptance at the destinating processing facility and ends with delivery.

With respect to Leg 1, the Postal Service intends to redesign regional transportation (routes between processing facilities, Post Offices, and delivery units) through the Regional Transportation Optimization (RTO) initiative to address the significant inefficiencies that exist in local and regional transportation networks and to ensure service reliability and cost efficiency. With respect to Leg 2, the Postal Service intends to systematically redesign and invest in our outmoded processing facilities to create a network of Regional Processing and Distribution Centers or Campuses (RPDCs) and Local Processing Centers (LPCs), which deploy standardized and logically sequenced operating plans and schedules for the movement of mail and packages, more sortation equipment, optimized transportation routes, and improved operating tactics to increase throughput, gain productivity, and increase asset utilization across the country.

The Postal Service is proposing to revise service standards for end-to-end market-dominant products to align with our operational initiatives; these standards would be more operationally precise and specific for customers, enable the Postal Service to maintain or upgrade service standards for a majority of volume, and enhance the ability to reliably achieve standards. In particular, the Postal Service plans to reimagine how service standards are established by breaking that service into segments so that customers have clear, understandable, and logical information about the service provided to them from a 5-digit to 5-digit ZIP Code perspective.

For First-Class Mail, the existing day ranges would be preserved, meaning all mail would continue to be delivered within the existing day range of 1-5 days (as well as the current range of 0-1 days for USPS Connect® Local). For some end-to-end products within the contiguous 48 states (Periodicals, USPS Marketing Mail, and Package Services), the maximums for those day ranges would be shortened. (Unless specified otherwise, references in this document to the “contiguous states” or the “contiguous 48 states” include the District of Columbia.) No destination entry product standards would be changed, except to reflect the new RPDC/LPC network. Overall, most mail and packages in the contiguous 48 states would either receive the same service standard or an accelerated standard so that they are delivered faster than today, while some mail and packages under the new standards would have a service expectation that is longer than the current expectation but still within the current day-ranges.

Specifically, current First-Class Mail standards are predicated solely on plant-to-plant (3-digit ZIP Code to 3-digit ZIP Code) driving distances. The proposed rule would transition to 5-digit to 5-digit ZIP Code service standards that maintain the existing delivery day ranges while, for inter-RPDC volume, accurately and logically reflecting the three operational legs applicable to the movement of mail and packages: collection to origin processing facility (Leg 1), origin processing facility to destination processing facility (Leg 2), and destination processing facility to delivery (Leg 3). Distinct rules would apply to intra-RPDC volume (that is, First-Class Mail volume that originates and destinates in the same RDPC region), as well as certain intra-LPC volume.

Because the current standards are predicated on plant-to-plant driving distances, they do not consider the regional and local transportation operations necessary to transport mail and packages from where they are collected to the processing network: that is, within a particular 3-digit ZIP Code, a mailpiece that originates at a Post Office that is 300 miles from the processing facility in which the mailpiece is dispatched to the network has the same standard as a mailpiece that originates 20 miles from that processing facility (if they are going to the same destination 3-digit ZIP Code). To meet the constraints imposed by this current approach to service standards, the Postal Service must structure our transportation network to ensure that all originating mail gets to the processing network on the day it is collected from customers, no matter how far away from the processing network it is entered. This leads to significant inefficiencies in our regional transportation practices, because the Postal Service must conduct separate trips to drop-off destinating volume from the processing network to collection/delivery facilities in the morning (AM drop-off) and pick-up originating volume from the collection/delivery facilities to the processing network in the afternoon (PM collections), or alternatively pay Highway Contract Route (HCR) contractors to layover for multiple hours between the AM and PM legs of their routes.

While this practice of separating drop-off and pick-up activities may have made sense in a different era where the volume of single-piece letter mail was much greater, it engenders costs and inefficiencies impossible to justify in today's environment. Overall, the current practice results in inefficient transportation—characterized by excessive trips, poor utilization of truck capacity, and excess carbon emissions. In addition, the current practice reduces the efficiency and reliability of our Leg 2 operations (processing and network transportation), because the need to wait for the volume from outlying collection/delivery facilities to arrive at the processing plant on the PM transportation creates a volume arrival profile which reduces efficiencies, requires the scheduled dispatch to the network to be later, and increases the likelihood either for the scheduled dispatch to leave late in order to wait for all of the mail and packages to arrive at the plant and be processed, or for mail and packages to not make the scheduled dispatch at all because it does not make it to the plant on time to be processed on that day given the compressed processing window. This impacts not only the efficiency and velocity of originating operations, but can also have substantial negative downstream effects that reduce our service performance for all volume.

With respect to Leg 1, the Postal Service proposes the nationwide implementation of RTO, for mail originating in the contiguous states, to correct for these inefficiencies. Pursuant to RTO, the Postal Service will have the ability to structure transportation routes that go to facilities that are farther from the processing network so that trucks would pick up originating volume on the same routes that are also used to drop off destinating volume. The RTO initiative rationalizes the regional transportation network by eliminating routes and increasing truck utilization and thereby reduces transportation costs and the amount of carbon emissions. It also improves the efficiency and velocity of the processing network by producing volume arrival profiles that are spread more evenly throughout the day, enabling a more effective use of network resources and allowing the Postal Service to dispatch volume that is entered closer to processing plants (which is a majority of volume) earlier than is the case today. The Postal Service will designate 5-digit ZIP Codes for RTO when a retail/collection facility within that 5-digit ZIP Code is more than 50 miles from the RPDC campus. Exceptions to this 50-mile rule may be implemented under certain circumstances based on operational or business considerations.

The proposed standards will more logically and accurately reflect our operations within Leg 1 and enable the implementation of the RTO initiative, thereby giving the Postal Service the ability to optimize our regional and local transportation. Specifically, and as part of the proposed shift from the 3-digit to 3-digit ZIP Code standards to a more refined service calculation based on 5-digit ZIP Codes, the service standards will explicitly accommodate the fact that mail and packages entered the prior day would under RTO be picked up on the next day's transportation route for certain ZIP Codes. Mailpieces entered in ZIP Codes subject to RTO would therefore have one day assigned for Leg 1 in the service standards; zero days will apply in Leg 1 to pieces originating in other 5-digit ZIP Codes not subject to RTO. Implementing this change is the only way to correct for the significant deficiencies of the current network, while also ensuring that the standards set forth achievable, reliable, and understandable service expectations for customers.

With respect to Leg 2, the proposed standards reflect the increased efficiency, velocity, and reach of our processing and network transportation due to the operational benefits of the RPDC/LPC redesign and RTO. As noted above, the network of RPDCs and LPCs will deploy standardized and logically sequenced operating plans and schedules, more sortation equipment, optimized transportation routes, and improved operating tactics to increase throughput, gain productivity, and increase asset utilization across the country. In addition, RTO enables more efficient and accelerated originating processing operations, therefore allowing volumes to enter the network earlier. As a result of these benefits, the Postal Service is proposing to expand by four hours each of the existing service standard bands within Leg 2 for First-Class Mail so that such mail can travel farther to plants that are a greater distance from the originating plant within the Leg 2 bands.

Finally, while the Postal Service is recognizing Leg 3 in our First-Class Mail standards, no additional days are being added for this leg, which is the same as the current standards.

These proposed adjustments to the service standards would lead to a net positive impact for First-Class Mail from a service standard perspective, and generally faster service for end-to-end USPS Marketing Mail, Periodicals, and Package Services. The proposed service standards reflect the fact that the operational changes will enable volume to be accelerated through Leg 2, due to the benefits of the new network design and RTO; as a result, the Leg 2 bands for First-Class Mail will be expanded by four hours compared to the current standards. All volume would benefit from greater service reliability. Some mail and packages (constituting a minority of volume) in the contiguous states would experience a service standard that is longer than the current service standard (although still within the current day ranges), primarily because the Postal Service would assign one day within Leg 1 for all volume originating in a 5-digit ZIP Code that is subject to the RTO, as described below. In addition, as a result of the overall changes, a small volume of mail and packages to and/or from locations outside the contiguous states would experience a service standard that is longer than the current service standards, while other volume outside the contiguous states would experience a service standard that is shorter than the current service standards. The relative upgrades and downgrades demonstrate the Postal Service's efforts to maintain high quality service and mitigate any customer impacts to the extent possible, while also implementing operational changes necessary to achieve the critical—and significant—cost savings that are necessary for financial sustainability.

The proposed service standards are a critical aspect of the Plan's overall goals to create a financially sustainable and reliable Postal Service capable of achieving our universal service mission for all customers for years to come. In this regard, and considering the Postal Service's statutory obligations, the proposed changes would enable the Postal Service to achieve a better balance of cost-effectiveness and reliability, by enabling the Postal Service to undertake critically necessary operational initiatives and more realistically aligning the service standards with our operational capabilities. The proposed rule would result in much more precise and efficient network operations that better match current and projected mail mix and volumes, and the Postal Service anticipates that the changes will result in significant cost savings, in addition to enhancing service reliability and predictability. This keeps costs at reasonable levels and helps to ensure affordable rates. Overall, the operational changes and associated service standards will revitalize and rationalize our network in a way that enables us to be a modern and high-performing organization.

Pursuant to 39 U.S.C. 3661(b), on October 4, 2024, the Postal Service requested an advisory opinion from the Postal Regulatory Commission relating to these proposed revisions to 39 CFR part 121; the Commission is considering the request in Docket No. N2024-1. Further explanation and justification of the operational initiatives and the proposed service standards, and how they are consistent with 39 U.S.C. 3691 and other provisions of law, can be found in the materials that the Postal Service has filed in that docket.

Finally, while the proposed changes must also be pursued with a sense of urgency, given both our financial condition and the fundamental fact that we cannot be an efficient, high-performing organization until we fix the inefficiencies of our current network, it is important to note that the Postal Service would not implement the proposed service standard changes any sooner than 90 days after the filing of the advisory opinion request noted above. As such, these proposed changes would not be implemented until the next calendar year and would therefore not impact our preparedness for peak season 2024 (and also did not impact our efforts to deliver Election Mail in a timely fashion for the 2024 General Election).

II. Proposed Revisions to Service Standards

The Postal Service's market-dominant service standards are contained in 39 CFR part 121. The specific proposed revisions to 39 CFR part 121 appear at the end of this document. The following is a summary of the proposed revisions.

A. First-Class Mail

Under the proposed rule, the process for collections would not change, nor would access to Postal Service retail services. Instead, RTO would eliminate the interdependency between the time mail is collected from our customers and network transportation schedules and plant processing schedules; eliminating this interdependency between local retail and collection operations, and our network logistics and processing operations, is critically important to enabling us to create a precise, efficient, and cost-effective network, as discussed in more detail above. ZIP Codes would be designated for RTO when a retail/collection facility within that 5-digit ZIP Code is more than 50 miles from the RPDC (though exceptions may apply). In situations where the RPDC is a campus, the 50-mile rule will be based on the location of the specific facility that performs cancellation operations. The proposed rule generally would add no day for Leg 1 for ZIP Codes within 50 miles from the RPDC campus and would add one day to the service standard for ZIP Codes that are more than 50 miles from the originating RPDC. This would allow for more efficient and flexible transportation schedules and improve the arrival profile for mail processing operations, enabling the Postal Service to more timely dispatch the volume that is collected closer to the RPDC to the Leg 2 transportation network.

This logic would generally apply to all end-to-end volume across market-dominant products. Because Leg 1 is the portion of operations from collection to the originating plant, this rule would not apply to any products entered at an RPDC, Presort First-Class Mail, or any destination-entered volume. For operational efficiency, the Postal Service is considering how to adjust when and where Presort First-Class Mail volume may be entered to ensure that it is not subject to RTO. This may result in specification of locations where Presort First-Class Mail can be entered, or changing the critical entry time (CET) for Presort First-Class Mail to ensure there is sufficient time for volume to enter the network. The CET is the latest time on a particular day that a mail piece can be entered into the postal network and still have its service standard calculated based on that day (this day is termed “day-zero”); all of the service standards are contingent upon proper acceptance before the applicable CET.

RTO would provide flexibility in regional transportation scheduling, as the standards would accommodate the fact that mail and packages could under RTO be picked up the next day from the Post Office on the same trip that also dropped off mail at that Post Office for delivery that day. Explicitly accounting for this operational practice in the service standards enables the Postal Service to achieve the benefits of RTO, while also providing customers with more precise and reliable service expectations. Additionally, by no longer requiring all mail to wait for the volumes collected from the furthest away Post Offices, the Postal Service would be able to accelerate the mail that is within the 50-mile radius of an RPDC through mail processing, allowing for it to be dispatched to the network earlier, thus enabling the expansion of the Leg 2 service standard bands. As such, the addition of a day for Leg 1 would not necessarily equate to the addition of a day for the service standard overall for a given mailpiece. Rather, the service standard for a particular mailpiece would depend on the specific origin and destination and the cumulative number of days that are applicable across the operational segments (with no First-Class Mail having a service standard that exceeds five days).

Under the proposed rule for First-Class Mail, there are several fundamental changes to the calculation of service standards at Leg 2 to align with the end-state RPDC network. First, the measured transit path would be updated. The current network path used for measurement is Origin Processing and Distribution Center or Facility (OPDC/F) to Area Distribution Center (ADC) to Sectional Center Facility (SCF). The proposed rule would instead measure the distance between the Originating RPDC and the Destination RPDC and then the distance between the Destination RPDC to the Destination LPC.

Second, because of the improved arrival profiles facilitated by RTO and the improved efficiencies in the RPDC network, under the proposed rule, each of the existing service standard bands would expand by four hours for First-Class Mail. For example, under the current standards, First-Class Mail traveling three hours or less receives a 2-day standard. Under the proposed changes, First-Class Mail traveling up to seven hours (i.e., the current three hours, plus four more hours) would receive a 2-day standard. The bands applicable to the assignment of 3-day and 4-day standards within Leg 2 will also expand by four hours each.

Finally, even for pairs of originating and destinating 5-digit ZIP Codes where the application of the Leg 1 and Leg 2 rules noted above would otherwise result in a 6-day standard, the standard would nonetheless be capped at five days for such pairs.

This segment-by-segment approach applies to inter-RDPC volume (i.e., volume that is moving across the network). Specific rules will apply to mail and packages originating and destinating within the same RPDC region (intra-RDPC volume). Specifically, the proposed service standards would expand the geographic scope of such “turnaround” volume, which is volume originating and destinating within a facility's service area. Currently, certain intra-SCF volume receives a 2-day standard. Under the proposed rule, certain intra-LPC and all intra-RPDC First-Class Mail volume would be subject to a new turnaround rule, which would provide for a 2- or 3-day standard, depending on the location of the originating mail volume. Specifically, processing facilities that cancel Single-Piece First-Class Mail on automated equipment would have a 2-day standard for turnaround Single-Piece First-Class Mail originating from 5-digit ZIP Codes within 50 miles of the cancellation location. By contrast, if certain originating volume is from a 5-digit ZIP Code beyond 50 miles of the cancellation location, the turnaround standard for Single-Piece First-Class Mail would be three days. The decision on which LPCs would maintain cancellation operations for Single-Piece First-Class Mail, and thus process local turnaround mail without transporting it to an RPDC, would be based on operational factors, such as distance from the RPDC to the LPC, and the volume of turnaround mail processed at the LPC. In situations in which the LPC retains cancellation operations, the 50-mile rule noted above will be based on the distance from the LPC. In other situations, the RPDC will have cancellation operations, meaning the 50-mile rule will be based on the distance from the RPDC.

Currently, a 1-day service standard is applied to intra-SCF domestic Presort First-Class Mail pieces properly accepted at the SCF before the day-zero CET. To account for the redesigned network, a 1-day service standard would instead apply to eligible intra-LPC Presort First-Class Mail pieces properly accepted at the LPC before the day-zero CET. On the other hand, for eligible Presort First-Class Mail within the contiguous 48 states that is not eligible for the intra-LPC 1-day standard, but that nevertheless originates and destinates within the same RPDC, a 2-day service standard would apply.

RTO would not apply to originating locations outside of the contiguous 48 states; also, the service standards for domestic First-Class Mail originating and/or destinating in such locations would not necessarily depend on the segment-by-segment network path. As a result, service standards for domestic First-Class Mail originating and/or destinating in such locations would generally not change; an exception, for example, would be application of RTO to domestic Single-Piece First-Class Mail that (1) originates in the contiguous 48 states, (2) is collected in and dispatched from a 5-digit ZIP Code that is over 50 miles in driving distance from the originating RPDC, and (3) destinates in the city of Anchorage, Alaska (5-digit ZIP Codes 99501 through 99539), the 968 3-digit ZIP Code area in Hawaii, or the 006, 007, or 009 3-digit ZIP Code areas in Puerto Rico. Nevertheless, notwithstanding application of RTO generally for domestic First-Class Mail that meets these conditions, a maximum 5-day service standard would be applied.

A same-day service standard will continue to apply to USPS Connect® Local Mail pieces accepted at participating Destination Delivery Units (DDUs) before the applicable day-zero CET; for USPS Connect® Local Mail, Sorting & Delivery Centers are also considered DDUs. A 1-day service standard will continue to apply to all other pieces accepted as USPS Connect® Local Mail, including pieces accepted via carrier pick-up.

The proposed rule would also have certain effects on standards for international mail. As a result of the proposed application of 5-digit to 5-digit ZIP Code pairs, the service standard for outbound Single-Piece First-Class Mail International pieces properly accepted before the day-zero CET would be equivalent to the service standard for domestic First-Class Mail pieces originating from the same 5-digit ZIP Code area and destined to the 5-digit ZIP Code area in which the designated International Service Center is located. Similarly, the service standard for Inbound Letter Post pieces properly accepted before the day-zero CET would be equivalent to the service standard for domestic First-Class Mail pieces destined to the same 5-digit ZIP Code area and originating from the 5-digit ZIP Code area in which the applicable International Service Center is located. Because Inbound Parcel Post (at Universal Postal Union (UPU) rates) includes Inbound Surface Parcel Post (at UPU rates), and because that product is now competitively classified, the proposed rule would remove it from these market-dominant service standards.

B. Periodicals, USPS Marketing Mail, and Package Services

Service standards for end-to-end Periodicals and USPS Marketing Mail originating and destinating in the contiguous 48 states would generally flow from the Single-Piece First-Class Mail standards using the same measured travel path (disregarding standards for USPS Connect® Local Mail and for intra-LPC “turnaround” service). For Periodicals, the general rule in relation to First-Class Mail would remain the same—i.e., a 3-6-day range would be applied to Periodicals, with the standard generally equaling the sum of the applicable First-Class Mail service standard (disregarding standards for USPS Connect® Local Mail and for intra-LPC “turnaround” service) plus one day. For USPS Marketing Mail, the rule would add two days to the applicable First-Class Mail service standard (disregarding standards for USPS Connect® Local Mail and for intra-LPC “turnaround” service). This means that the outer-bound for USPS Marketing Mail in the contiguous states would be seven days, rather than ten days under the current standards. For end-to-end Package Services within the contiguous 48 states, the rule would add two days to the First-Class Mail standards, after 5-9 hours of Leg 2 driving time is added to the applicable First-Class Mail service band; overall, this would reduce the outer-bound of the service standards for Package Services in the contiguous states to seven days, rather than the current eight days.

With respect to Destination Entry Periodicals, Destination Entry USPS Marketing Mail, and Destination Entry Package Services, the service standards generally would not change, except to reflect the new network. That is, to correspond with the operational network and infrastructure changes that the Postal Service is implementing, the LPCs would replace the ADCs and the SCFs in the service standards. Likewise, the RPDCs would replace the Network Distribution Centers (NDCs) in the service standards. These changes would allow some Destination Entry Periodicals to receive an accelerated service standard, in part because it will no longer matter in this respect whether Destination ADCs (DADCs) and Destination SCFs (DSCFs) are co-located, given that they are both being replaced by Destination LPCs (DLPCs).

Under the proposed rule, for Destination Entry Periodicals originating and/or destinating in locations outside of the contiguous 48 states, service standards would largely remain unchanged, aside from facility nomenclature updates reflecting the network redesign, with certain exceptions. A small volume of mail to and/or from locations outside the contiguous states would experience a service standard that is longer than the current service standards, while some other volume outside the contiguous states would experience a service standard that is shorter than the current service standards. Currently, for example, a 3-day service standard is applied to Periodicals pieces that qualify for a DSCF rate and are properly accepted before the day-zero CET at the designated DSCF, if they are entered at the DSCF in Puerto Rico and destined to the U.S. Virgin Islands, or destined to the following 3-digit ZIP Code areas in Alaska (or designated portions thereof): 995 (5-digit ZIP Codes 99540 through 99599), 996, 997, 998, and 999; on the other hand, currently a 4-day service standard is applied to Periodicals pieces that qualify for a DADC rate and are properly accepted before the day-zero CET at the designated DADC, if they are entered at the DADC in Puerto Rico and destined to the U.S. Virgin Islands, or if they are destined to the following 3-digit ZIP Code areas in Alaska (or designated portions thereof): 995 (5- ZIP Codes 99540 through 99599), 996, 997, 998, and 999. Since LPCs would replace ADCs, and since DLPC service standards would largely track those currently applied to DSCF volume, for such mail, the shorter of the two service standards (i.e., 3-day) would apply to Periodicals pieces that qualify for a DLPC rate and are properly accepted before the day-zero CET at the designated DLPC, if they are entered at the DLPC in Puerto Rico and destined to the U.S. Virgin Islands, or destined to the following 3-digit ZIP Code areas in Alaska (or designated portions thereof): 995 (5-digit ZIP Codes 99540 through 99599), 996, 997, 998, and 999.

Furthermore, a 3-day service standard is currently applied to Periodicals pieces that qualify for a DSCF rate and are properly accepted before the day-zero CET at the designated DSCF, if they are entered at the DSCF in Hawaii and are destined to American Samoa; on the other hand, currently a 4-day standard applies to Periodicals pieces that qualify for a DADC rate, are properly accepted before the day-zero CET at the designated DADC, and are destined to American Samoa. For reasons of operational feasibility, under the proposed rule, a 4-day service standard would be applied to Periodicals pieces that qualify for a DLPC rate and are properly accepted before the day-zero CET at the designated DLPC, if they are destined to American Samoa.

Finally, as the service standards themselves have been simplified, the tables depicting day-ranges for non-contiguous states and territories at the end of Part 121 (Tables 2 and 4) likewise have been streamlined. Table 2 reflects the general standards for end-to-end day-ranges for the non-contiguous states and territories, including exceptions for some intermodal transportation. Table 4 reflects the general standards for destination entry day-ranges for the non-contiguous states and territories, including consolidated day-ranges resulting from LPCs and RPDCs superseding SCFs, ADCs, and NDCs.

III. Request for Comments

The Postal Service requests comments on all aspects of the proposal. In particular, the Postal Service solicits comments on the effects that the proposal could have on senders and recipients of the affected market-dominant mail classes. Mail users are encouraged to comment on the nature and extent of costs or savings they might experience as a result of the changes described in this document, as well as any additional possible costs or benefits they foresee, such as increased reliability and predictability. The provision of empirical data supporting any cost-benefit analysis also would be useful. Further, the Postal Service requests mail users' views regarding the application of the policies and requirements of Title 39 of the U.S. Code, particularly sections 101, 403, 404, and 3691, to the proposal. The Postal Service intends to consider comments received in response to this document as it determines whether to amend the service standard regulations and the manner in which any such amendments would be implemented. The Postal Service has also requested an advisory opinion from the Postal Regulatory Commission pursuant to 39 U.S.C. 3661(b).

Although exempt from the document and comment requirements of the Administrative Procedure Act (5 U.S.C. 553(b), (c)) regarding proposed rulemaking by 39 U.S.C. 410(a), the Postal Service invites public comments on the proposed revisions to 39 CFR part 121 and on the proposal generally. A more extensive discussion of the proposal and its associated network and service implications is available in the materials filed by the Postal Service with the Postal Regulatory Commission in Docket No. N2024-1, at http://www.prc.gov. If the Postal Service determines to implement the proposal, it will publish a final rule in the Federal Register. In any event, these service standard changes would not be implemented prior to 2025.

List of Subjects in 39 CFR Part 121

Administrative practice and procedure, Postal Service.

Accordingly, for the reasons stated in the preamble, the Postal Service proposes to amend 39 CFR part 121 as follows:

PART 121—SERVICE STANDARDS FOR MARKET-DOMINANT MAIL PRODUCTS

1. The authority citation for part 121 continues to read as follows:

Authority: 39 U.S.C. 101, 401, 403, 404, 1001, 3691.

2. Add § 121.0 to read as follows:

§ 121.0 Market-dominant product service standards.

Service standards in this part are contingent upon proper acceptance before the applicable day-zero Critical Entry Time (CET). Applying the service standards appearing in this part, effective service standards for combinations of 5-digit originating ZIP Codes and 5-digit destinating ZIP Codes can be found in a lookup table at www.usps.com.

3. Revise § 121.1 to read as follows:

§ 121.1 First-Class Mail.

(a) Service Standards Based on Delivery Legs Within the Contiguous 48 States Except as specified in paragraph (b), service standards for domestic First-Class Mail, whose origin and destination are within the contiguous 48 states, are calculated as the sum of service expectation days between 5-digit ZIP Code pairs, accruing across three successive legs as follows:

(1) Leg 1. Unless an exception applies due to operational or business considerations, for this leg (i) one service expectation day is added to First-Class Mail (excluding eligible Presort First-Class Mail) originating in a 5-digit ZIP Code when a facility from which mail is dispatched for the originating 5-digit ZIP Code is over 50 miles in driving distance from the originating Regional Processing and Distribution Center or Campus (RPDC), and (ii) zero service expectation days are added for all other First-Class Mail, including Single-Piece First-Class Mail when no facility from which mail is dispatched for the originating 5-digit ZIP Code is over 50 miles in driving distance from the originating RPDC, and including eligible Presort First-Class Mail.

(2) Leg 2. (i) Two service expectation days are added to First-Class Mail if the combined drive time between the originating RPDC, the destinating RPDC, and the destinating Local Processing Center (LPC) is 7 hours or less;

(ii) Three service expectation days are added to First-Class Mail if the combined drive time between the originating RPDC, the destinating RPDC, and the destinating LPC is more than 7 hours and not more than 24 hours;

(iii) Four service expectation days are added to First-Class Mail pieces if the combined drive time between the originating RPDC, the destinating RPDC, and the destinating LPC is more than 24 hours and not more than 45 hours; and

(iv) Five service expectation days are added to all remaining First-Class Mail pieces, except that four days are added to any such First-Class Mail for which a day is added under Leg 1.

(3) Leg 3. No service expectation days are added in Leg 3.

(b) Exceptions to Service Standards Based on Delivery Legs Within the Contiguous 48 States. (1) A same-day service standard applies to USPS Connect® Local Mail pieces accepted at participating Destination Delivery Units, and a one-day service standard applies to all other pieces accepted as USPS Connect® Local Mail.

(2) A one-day service standard applies to eligible intra-LPC Presort First-Class Mail pieces accepted at the LPC.

(3) For First-Class Mail that is not USPS Connect® Local Mail, with respect to “turnaround” service for pieces originating and destinating within the same RPDC service area or within the same LPC service area for certain qualifying LPCs (designated by the Postal Service based on operational considerations such as an LPC's distance from its servicing RPDC and volume processed at the LPC):

(i) A two-day service standard applies to:

(A) Eligible Presort First-Class Mail that is not eligible for a one day service standard under paragraph (2) and that originates and destinates in the same RPDC service area; and

(B) Single-Piece First-Class Mail originating in a 5-digit ZIP Code when no facility from which mail is dispatched for the originating 5-digit ZIP Code is over 50 miles in driving distance of the originating RPDC or qualifying LPC and destinates within the same RPDC's or qualifying LPC's service area.

(ii) A three-day service standard applies to Single-Piece First-Class Mail originating in a 5-digit ZIP Code when a facility from which mail is dispatched for the originating 5-digit ZIP Code is over 50 miles in driving distance of the originating RPDC or qualifying LPC and destinates within the same RPDC's or qualifying LPC's service area.

(c) Service Standards for Domestic First-Class Mail Originating and/or Destinating in Locations Outside of the Contiguous 48 States. (1) A same-day service standard applies to USPS Connect® Local Mail pieces accepted at participating Destination Delivery Units.

(2) Except as provided in paragraph (3), a one-day service standard applies to:

(i) Eligible intra-LPC Presort First-Class Mail pieces accepted at the LPC, whose origin and destination are outside the contiguous 48 states; and

(ii) All other pieces accepted as USPS Connect® Local Mail.

(3) A two-day service standard applies to:

(i) Eligible Presort First-Class Mail that originates in Puerto Rico and destinates in the U.S. Virgin Islands, or vice versa;

(ii) Eligible intra-LPC Presort First-Class Mail with an origin or destination that is in American Samoa or one of the following 3-digit ZIP Code areas in Alaska (or designated portions thereof): 995 (5-digit ZIP Codes 99540 through 99599), 996, 997, 998, and 999; and

(iii) Other intra-LPC First-Class Mail pieces whose origin and destination are outside the contiguous 48 states, including any other intra-LPC Presort pieces that are not eligible for a one-day service standard.

(4) A four-day service standard applies to First-Class Mail pieces if the same-day, one-day, or two-day service standards do not apply and:

(i) The origin is in the 006, 007, or 009 3-digit ZIP Code areas in Puerto Rico, and the destination is in the contiguous 48 states;

(ii) The origin is in Hawaii, and the destination is in Guam, or vice versa;

(iii) The origin is in Hawaii, and the destination is in American Samoa, or vice versa;

(iv) Both the origin and destination are within Alaska; or

(v) Such mail originates in a 5-digit ZIP Code where no facility from which mail is dispatched for that 5-digit ZIP Code is over 50 miles of driving distance from its originating RPDC, and the origin is in the contiguous 48 states and the destination is in the city of Anchorage, Alaska (5-digit ZIP Codes 99501 through 99539), the 968 3-digit ZIP Code area in Hawaii, or the 006, 007, or 009 3-digit ZIP Code areas in Puerto Rico.

(5) A five-day service standard applies to all remaining domestic First-Class Mail pieces originating and/or destinating outside the contiguous 48 states.

(d) Service Standards for International First-Class Mail. (1) The service standard for Outbound Single-Piece First-Class Mail International® pieces is equivalent to the service standard for domestic Single-Piece First-Class Mail pieces originating from the same 5-digit ZIP Code area and destined to the 5-digit ZIP Code area in which the designated International Service Center, or its functional equivalent, is located.

(2) The service standard for Inbound Letter Post pieces from the first USPS scan is equivalent to the service standard for domestic Single-Piece First-Class Mail pieces destined to the same 5-digit ZIP Code area and originating from the 5-digit ZIP Code area in which the applicable International Service Center, or its functional equivalent, is located.

4. Revise § 121.2 to read as follows:

§ 121.2 Periodicals.

(a) End-to-End. (1) Except as provided in paragraph (2), a 3- to 6-day service standard applies to end-to-end Periodicals pieces, with the standard generally equaling the sum of one day plus the applicable Single-Piece First-Class Mail (FCM) service standard (disregarding standards for USPS Connect® Local FCM and for intra-Local Processing Center “turnaround” service).

(2) For certain end-to-end Periodicals pieces originating and/or destinating outside the contiguous 48 states, a 10- to 27-day service standard applies, with the standard generally equaling the sum of 3 to 6 days plus the number of additional days (from 7 to 21) for which certain intermodal (e.g., highway, boat, air-taxi) transportation is utilized.

(b) Destination Entry. (1) Destination Delivery Unit (DDU) Entered Mail. A 1-day (overnight) service standard applies to Periodicals pieces that qualify for a DDU rate.

(2) Destination Local Processing Center (DLPC) Entered Mail. (i) A 1-day (overnight) service standard applies to Periodicals pieces that qualify for a DLPC (or analogous legacy) rate, except for mail entered in Puerto Rico and destined to the U.S. Virgin Islands, mail destined to American Samoa, and mail destined to the following 3-digit ZIP Code areas in Alaska (or designated portions thereof): 995 (5-digit ZIP Codes 99540 through 99599), 996, 997, 998, and 999;

(ii) A 3-day service standard applies to Periodicals pieces that qualify for a DLPC (or analogous legacy) rate, if they are entered in Puerto Rico and destined to the U.S. Virgin Islands, or if they are destined to the following 3-digit ZIP Code areas in Alaska (or designated portions thereof): 995 (5-digit ZIP Codes 99540 through 99599), 996, 997, 998, and 999.

(iii) A 4-day service standard applies to Periodicals pieces that qualify for a DLPC (or analogous legacy) rate if they are destined to American Samoa.

(3) Destination Regional Processing and Distribution Center or Campus (DRPDC) Entered Mail. (i) A 2-day service standard applies to Periodicals pieces that qualify for a DRPDC (or analogous legacy) rate, are entered in the contiguous 48 states, and are destined within the contiguous 48 states;

(ii) An 8- to 10-day service standard applies to Periodicals pieces that qualify for a DRPDC (or analogous legacy) rate, are entered in the contiguous 48 states, and are destined outside the contiguous 48 states, with the specific standard being based on the number of days required for transportation outside the contiguous 48 states.

5. Revise § 121.3 to read as follows:

§ 121.3 USPS Marketing Mail.

(a) End-to-End. (1) Except as provided in paragraph (2), a 4- to 7-day service standard applies to end-to-end USPS Marketing Mail pieces, with the standard generally equaling the sum of 2 days plus the applicable Single-Piece First-Class Mail (FCM) service standard (disregarding standards for USPS Connect® Local FCM and for intra-Local Processing Center (LPC) “turnaround” service).

(2) For certain end-to-end USPS Marketing Mail pieces originating and/or destinating outside the contiguous 48 states, an 11- to 28-day service standard applies, with the standard generally equaling the sum of 4 to 7 days plus the number of additional days (from 7 to 21) for which certain intermodal (e.g., highway, boat, air-taxi) transportation is utilized.

(b) Destination Entry. (1) USPS Marketing Mail pieces that qualify for a Destination Delivery Unit (DDU) rate have a 2-day service standard.

(2) USPS Marketing Mail pieces that qualify for a Destination Local Processing Center (DLPC) (or analogous legacy) rate have a 3-day service standard when accepted on Sunday through Thursday and a 4-day service standard when accepted on Friday or Saturday, except for mail dropped at the LPC in the territory of Puerto Rico and destined to the territory of the U.S. Virgin Islands, or mail destined to American Samoa.

(3) USPS Marketing Mail pieces that qualify for a DLPC (or analogous legacy) rate and that are entered in the territory of Puerto Rico and destined to the territory of the U.S. Virgin Islands, or that are destined to American Samoa, have a 4-day service standard when accepted on Sunday through Thursday and a 5-day service standard when accepted on Friday or Saturday.

(4) USPS Marketing Mail pieces that qualify for a Destination Regional Processing and Distribution Center or Campus (DRPDC) (or analogous legacy) rate have a 5-day service standard, if both the origin and the destination are in the contiguous 48 states.

(5) USPS Marketing Mail pieces that qualify for a DRPDC (or analogous legacy) rate, and that are entered in the contiguous 48 states for delivery to addresses in the states of Alaska or Hawaii or the territories of Guam, American Samoa, Puerto Rico, or the U.S. Virgin Islands, have a service standard of 12-14 days, depending on the 3-digit origin-destination ZIP Code pair. For each such pair, the applicable day within the range is based on the number of days required for transportation outside the contiguous 48 states.

6. Revise § 121.4 to read as follows:

§ 121.4 Package Services.

(a) End-to-End. (1) Except as provided in paragraph (2), a 4- to 7-day service standard applies to end-to-end Package Services pieces, with the standard generally equaling the sum of 2 days plus the applicable Single-Piece First-Class Mail (FCM) service standard (disregarding standards for USPS Connect® Local FCM and for intra-Local Processing Center “turnaround” service) after adding 5-9 hours to the applicable driving time bands of Leg 2 for FCM, as applied to specific 5-digit origin-destination pairs in the table cited in section 121.0.

(2) For certain end-to-end Package Services pieces originating and/or destinating outside the contiguous 48 states, an 11- to 29-day service standard applies, with the standard generally equaling the sum of 4 to 7 days plus the number of additional days (from 7 to 22) for which certain intermodal (e.g., highway, boat, air-taxi) transportation is utilized.

(b) Destination Entry. (1) Package Services mail that qualifies for a Destination Delivery Unit (DDU) rate has a 1-day (overnight) service standard.

(2) Package Services mail that qualifies for a Destination Local Processing Center (DLPC) (or analogous legacy) rate has a 2-day service standard, except for mail that is destined to either American Samoa or the U.S. Virgin Islands.

(3) Package Services mail that qualifies for a DLPC rate, and that is destined to either American Samoa or the U.S. Virgin Islands, has a 3-day service standard.

(4) Package Services mail that qualifies for a Destination Regional Processing and Distribution Center or Campus (DRPDC) (or analogous legacy) rate, and that originates and destinates in the contiguous 48 states, has a 3-day service standard.

(5) Package Services mail that qualifies for a DRPDC (or analogous legacy) rate, and that is entered in the contiguous 48 states for delivery to addresses in the states of Alaska or Hawaii, or the territories of Guam, American Samoa, Puerto Rico, or the U.S. Virgin Islands, has a service standard of either 11 or 12 days, depending on the 3-digit ZIP Code origin-destination pair. For each such pair, the applicable day within the range is based on the number of days required for transportation outside the contiguous 48 states.

7. Revise appendix A to part 121 to read as follows:

Appendix A to Part 121—Tables Depicting Service Standard Day Ranges

The following tables reflect the service standard day ranges resulting from the application of the business rules applicable to the market-dominant mail products referenced in §§ 121.0 through 121.4 (for purposes of Part 121, references to the contiguous states or the contiguous 48 states also include the District of Columbia):

Table 1. End-to-end service standard day ranges for mail originating and destinating within the contiguous 48 states and the District of Columbia.

Table 1—End-to-End Service Within Contiguous States
Mail class | End-to-end range (days)
First-Class Mail | 0-5
Periodicals | 3-6
USPS Marketing Mail | 4-7
Package Services | 4-7

Table 2. End-to-end service standard day ranges for mail originating and/or destinating in non-contiguous states and territories.

Table 2—End-to-End Service to and/or From Non-Contiguous States and Territories
Mail class | End-to-end range (days): Intra-state/territory | End-to-end range (days): Inter-state/territory
First-Class Mail | 0-5 | 2-5
Periodicals | 3-6 | 3-27
USPS Marketing Mail | 4-7 | 4-28
Package Services | * 4-7 | 4-29
* Excluding bypass mail.

Table 3. Destination-entry service standard day ranges for mail to the contiguous 48 states and the District of Columbia.

Table 3—Destination Entry Service to Contiguous States
Mail class | Contiguous states: Destination entry (at appropriate facility) range (days): * DDU | Contiguous states: Destination entry (at appropriate facility) range (days): * DLPC | Contiguous states: Destination entry (at appropriate facility) range (days): * DRPDC
Periodicals | 1 | 1 | 2
USPS Marketing Mail | 2 | 3-4 | 5
Package Services | 1 | 2 | 3
* DDU = Destination Delivery Unit; DLPC = Destination Local Processing Center; DRPDC = Destination Regional Processing and Distribution Center or Campus.

Table 4. Destination entry service standard day ranges for mail to non-contiguous states and territories.

Table 4—Destination Entry Service to Non-Contiguous States and Territories
Mail class | Destination entry (at appropriate facility): * DDU range (days) | Destination entry (at appropriate facility): * DLPC range (days): Alaska | Destination entry (at appropriate facility): * DLPC range (days): ** Hawaii, Guam, NMI, & AS | Destination entry (at appropriate facility): * DLPC range (days): ** PR & USVI | Destination entry (at appropriate facility): * DRPDC range (days): Alaska | Destination entry (at appropriate facility): * DRPDC range (days): Hawaii, Guam, NMI, & AS | Destination entry (at appropriate facility): * DRPDC range (days): PR & USVI
Periodicals | 1 | 1-3 | 1-4 | 1-3 | 10-11 | 10 | 8-10
USPS Marketing Mail | 2 | 3-4 | 3-5 | 3-5 | 14 | 13 | 12
Package Services | 1 | 2 | 2-3 | 2-3 | 12 | 11 | 11
* DDU = Destination Delivery Unit; DLPC = Destination Local Processing Center; DRPDC = Destination Regional Processing and Distribution Center or Campus.
** AS = American Samoa; NMI = Northern Mariana Islands; PR = Puerto Rico; USVI = United States Virgin Islands.

Christopher Doyle,
Attorney, Ethics & Legal Compliance.

[FR Doc. 2024-26434 Filed 11-14-24; 8:45 am]

BILLING CODE 7710-12-P